DEPARTMENT OF TRANSPORTATION

Federal Aviation Administration

14 CFR Part 71

[Docket No. FAA-2005-21381; Airspace Docket No. 05-ASW-2]

RIN 2120-AA66

Proposed Establishment of Area Navigation Routes; Southwestern and South Central United States

AGENCY: Federal Aviation Administration (FAA), DOT.

ACTION: Notice of proposed rulemaking (NPRM).

SUMMARY: This action proposes to establish three area navigation (RNAV) routes in Southwestern and South Central United States in support of the High Altitude Redesign (HAR) program. The FAA is proposing this action to enhance safety and to improve the efficient use of the navigable airspace.

DATES: Comments must be received on or before August 8, 2005.

ADDRESSES: Send comments on this proposal to the Docket Management System, U.S. Department of Transportation, Room Plaza 401, 400 Seventh Street, SW., Washington, DC 20590-0001. You must identify FAA Docket No. FAA-2005-21381 and Airspace Docket No. 05-ASW-2, at the beginning of your comments. You may also submit comments through the Internet at http://dms.dot.gov.

FOR FURTHER INFORMATION CONTACT: Steve Rohring, Airspace and Rules, Office of System Operations and Safety, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2005-21381 and Airspace Docket No. 05-ASW-2) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2005-21381 and Airspace Docket No. 05-ASW-2.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 2601 Meacham Blvd; Fort Worth, TX 76193-0500.

Persons interested in being placed on a mailing list for future NPRM's should contact the FAA's Office of Rulemaking, (202) 267-9677, for a copy of Advisory Circular No. 11-2A, Notice of Proposed Rulemaking Distribution System, which describes the application procedure.

Background

As part of the on-going National Airspace Redesign, the FAA implemented the HAR program. This program focuses on developing and implementing improvements in navigation structure and operating methods to allow more flexible and efficient en route operations in the high altitude airspace environment. In support of this program, the FAA is establishing RNAV routes to provide greater freedom to properly equipped users and to achieve the economic benefits of flying user-selected, non-restrictive routings.

The new RNAV routes will be identified by the letter prefix “Q” followed by a number consisting of from one to three digits. The International Civil Aviation Organization (ICAO) has allocated the “Q” prefix, along with the number set 1 through 499, for use by the United States for designating domestic RNAV routes.

Related Rulemaking

On April 8, 2003, the FAA published the Designation of Class A, B, C, D, and E Airspace Areas; Air Traffic Service Routes, and Reporting Points rule in the Federal Register (68 FR 16943). The purpose of the rule was to facilitate the establishment of RNAV routes in the National Airspace System for use by aircraft with advanced navigation system capabilities. This rule adopted certain amendments proposed in Notice No. 02-20, Area Navigation and Miscellaneous Amendments. The rule revised and adopted several definitions in FAA regulations, including Air Traffic Service Routes, to be in concert with ICAO definitions and reorganized the structure of FAA regulations concerning the designation of Class A, B, C, D, and E airspace areas, airways, routes, and reporting points.

On May 9, 2003, the FAA published a final rule in the Federal Register (68 FR 24864) establishing 11 new RNAV routes along high-density air traffic tracks in the western and north central United States in support of Phase I of the HAR. Additionally, on February 7, 2005, the FAA published in the Federal Register (70 FR 6376) a notice of proposed rulemaking to establish eight RNAV routes in Florida in support of this program.

The Proposal

The FAA is proposing to amend Title 14 Code of Federal Regulations (14 CFR) part 71 to establish three RNAV routes in Southwestern and South Central United States within the airspace assigned to the Albuquerque and Fort Worth Air Route Traffic Control Centers (ARTCC). These routes are proposed as part of the HAR program to enhance safety and to facilitate the more flexible and efficient use of the navigable airspace for en route instrument flight rules operations within the Albuquerque and the Fort Worth ARTCCs' areas of responsibility.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 2006 Area Navigation Routes

* * * * *

Q-20 JCT to CNX [New]
JCT | VORTAC | (Lat. 30°35′53″ N., long. 099°49′03″ W).
FUSCO | WP | (Lat. 31°11′02″ N., long. 101°19′30″ W).
UNNOS | WP | (Lat. 32°57′00″ N., long. 103°56′00″ W).
HONDS | WP | (Lat. 33°33′60″ N., long. 104°51′12″ W).
CNX | VORTAC | (Lat. 34°22′01″ N., long. 105°40′41″ W).
Q-22 GUSTI to CATLN [New]
GUSTI | WP | (Lat. 29°58′15″ N., long. 092°54′35″ W).
OYSTY | WP | (Lat. 30°28′15″ N., long. 090°11′49″ W).
RUBAE | WP | (Lat. 30°55′27″ N., long. 088°22′11″ W).
CATLN | WP | (Lat. 31°18′26″ N., long. 087°34′48″ W).
Q-24 LCH to PAYTN [New]
LCH | VORTAC | (Lat. 30°08′29″ N., long. 093°06′20″ W).
BTR | VORTAC | (Lat. 30°29′06″ N., long. 091°17′39″ W).
IRUBE | WP | (Lat. 31°00′16″ N., long. 088°56′19″ W).
PAYTN | WP | (Lat. 31°28′04″ N., long. 087°53′08″ W).

* * * * *

Issued in Washington, DC, on June 10, 2005.
Edith V. Parish,
Acting Manager, Airspace and Rules.

[FR Doc. 05-12122 Filed 6-21-05; 8:45 am]

BILLING CODE 4910-13-P